DEPARTMENT OF JUSTICE

Office of Justice Programs

[OMB Number 1121-0234]

Agency Information Collection Activities: Proposed Collection; Comments Requested

ACTION: 30-Day Notice of Information Collection Under Review: Extension of a currently approved collection for Requirements Data Collection Application for the Juvenile Accountability Incentive Block Grants Program

The Department of Justice (DOJ), Office of Justice Programs (OJP) will be submitting the following information collection request to the Office of Management and Budget (OMB) for review and approval in accordance with the Paperwork Reduction Act of 1995. The proposed information collection is published to obtain comments from the public and affected agencies. This proposed information collection was previously published in the Federal Register Volume 72, Number 44, page 10259 on March 7, 2007, allowing for a 60 day comment period.

The purpose of this notice is to allow for an additional 30 days for public comment until June 11, 2007. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Requirements Data Collection Application for the Juvenile Accountability Incentive Block Grants Program.

(3) Agency form number, if any, and the applicable component of the Department sponsoring the collection: The Office of Management and Budget Number for this collection is 1121-0234. The Office of Juvenile Justice and Delinquency Prevention, Office of Justice Programs, United States Department of Justice is sponsoring the collection.

(4) Affected public who will be asked or required to respond, as well as a brief abstract: Primary: State, Local or Tribal Government. The House of Representatives passed the Juvenile Accountability Incentive Block Grants (JAIBG) Act in 1997 under Title III of H.R. 3. Congress first funded the program through an appropriations act in fiscal year 1998 and authorized the Attorney General to provide grants under the JAIBG program for states and units of local government, to include tribal governments. They were to use these funds to support innovative, effective programs that reduce juvenile offending through accountability-based initiatives focusing on offenders and the juvenile justice system and that improve the efficiency of state juvenile justice systems. The Department of Justice Authorization Act of FY 2003 included provisions to change the name of the JAIBG program to the Juvenile Accountability Block Grants (JABG) program, expand the number and scope of the program areas, refine the program's reporting and monitoring requirements, and include program funding as part of Title I (Part R, Chapter 46, Subchapter XII-F) of the Omnibus Crime Control and Safe Streets Act. This legislation stated that the changes would go into effect as of FY 2004.

(5) An estimate of the total number of respondents and the amount of time estimated for an average respondent to respond/reply: It is estimated that it will take 56 respondents an estimated 1 hour to respond to the application.

(6) An estimate of the total public burden (in hours) associated with the collection: The total estimated annual burden hours to complete the application is 4,200 hours.

If additional information is required contact: Lynn Bryant, Department Clearance Officer, United States Department of Justice, Justice Management Division, Policy and Planning Staff, Patrick Henry Building, Suite 1600, 601 D Street, NW., Washington, DC 20530.

Dated: May 7, 2007.
Lynn Bryant,
Department Clearance Officer, United States Department of Justice.

[FR Doc. E7-9146 Filed 5-10-07; 8:45 am]

BILLING CODE 4410-18-P